DEPARTMENT OF THE INTERIOR

Office of the Secretary

[156D0102DM/DS10700000/DMSN00000.000000/DX.10701.CEN00000]

Privacy Act of 1974, as Amended; Notice of a New System of Records

AGENCY: Office of the Secretary, Interior.

ACTION: Notice of creation of a new system of records.

SUMMARY: Pursuant to the provisions of the Privacy Act of 1974, as amended, the Department of the Interior is issuing a public notice of its intent to create the Indian Arts and Crafts Board system of records. The system will assist the Department of the Interior's Indian Arts and Crafts Board in overseeing the implementation of the Indian Arts and Crafts Act of 1990, as amended, and managing Indian Arts and Crafts Board program activities. This newly established system will be included in the Department of the Interior's inventory of record systems.

DATES: Comments must be received by June 23, 2015. This new system will be effective June 23, 2015.

ADDRESSES: Any person interested in commenting on this new system of records may do so by submitting written comments to Teri Barnett, Departmental Privacy Officer, U.S. Department of the Interior, 1849 C Street NW., Mail Stop 5547 MIB, Washington, DC 20240; hand-delivering comments to Teri Barnett, Departmental Privacy Officer, U.S. Department of the Interior, 1849 C Street NW., Mail Stop 5547 MIB, Washington, DC 20240; or emailing comments to Privacy@ios.doi.gov.

FOR FURTHER INFORMATION CONTACT: Director, Indian Arts and Crafts Board, U.S. Department of the Interior, 1849 C Street NW., Mail Stop 2528 MIB, Washington, DC 20240; or by telephone at 202-208-3773.

SUPPLEMENTARY INFORMATION:

I. Background

The Department of the Interior (DOI), Office of the Secretary is creating the Indian Arts and Crafts Board system of records. The system will assist the DOI Indian Arts and Crafts Board (IACB) in overseeing the implementation of the Indian Arts and Crafts Act of 1990, the investigation of individuals or organizations that offer or display for sale or sell any good, with or without a Government trademark, in a manner that falsely suggests it is Indian produced, an Indian product, or the product of a particular Indian or Indian tribe or Indian arts and crafts organization within the United States. The system also helps the IACB manage its program activities; promote the economic development of American Indians and Alaska Natives of federally recognized tribes through the expansion of the Indian arts and crafts market; provide promotional opportunities, general business advice, and information on the Indian Arts and Crafts Act to Native American artists, craftspeople, businesses, museums, and cultural centers of federally recognized tribes; manage museum exhibitions and activities; and produce the Source Directory of American Indian and Alaska Native Owned and Operated Arts and Crafts Businesses.

In a notice of proposed rulemaking, which is published separately in the Federal Register, the Department of the Interior is proposing to exempt particular records maintained in this system from certain provisions of the Privacy Act pursuant to 5 U.S.C. 552a(k)(2).

The system will be effective as proposed at the end of the comment period (the comment period will end 40 days after the publication of this notice in the Federal Register), unless comments are received that would require a contrary determination. DOI will publish a revised notice if changes are made based upon a review of the comments received.

II. Privacy Act

The Privacy Act of 1974, as amended, embodies fair information practice principles in a statutory framework governing the means by which Federal Agencies collect, maintain, use, and disseminate individuals' personal information. The Privacy Act applies to records about individuals that are maintained in a “system of records.” A “system of records” is a group of any records under the control of an agency for which information about an individual is retrieved by the name or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act regulations located at 43 CFR part 2.

The Privacy Act requires each agency to publish in the Federal Register a description denoting the type and character of each system of records that the agency maintains and the routine uses of the information in each system in order to make agency record keeping practices transparent, notify individuals regarding the uses of their records, and assist individuals to more easily find such records within the agency. Below is the description of the Indian Arts and Crafts Board, DOI-24, system of records.

In accordance with 5 U.S.C. 552a(r), DOI has provided a report concerning this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Date: May 11, 2015.
Teri Barnett,
Departmental Privacy Officer.

SYSTEM NAME:

Indian Arts and Crafts Board, DOI-24

SYSTEM LOCATION:

Records in this system are maintained by the Department of the Interior, Indian Arts and Crafts Board, 1849 C Street NW., Mail Stop 2528-MIB, Washington, DC 20240; Office of Law Enforcement, U.S. Fish and Wildlife Service, 500 Gold Avenue, Mail Stop 9021, Albuquerque, New Mexico 87102; and at IACB field offices located at DOI facilities. Records are also maintained at DOI IACB museum facilities: Southern Plains Indian Museum, 801 E Central Boulevard, Anadarko, Oklahoma 73005; Museum of the Plains Indian, 19 Museum Loop, Browning, Montana 59417; and Sioux Indian Museum, 222 New York Street, Rapid City, South Dakota 57701.

CATEGORIES OF INDIVIDUALS COVERED BY THE SYSTEM:

Individuals who donate collection objects or other materials to the IACB; request access to or information about collections materials; request usage of or rights to archival materials held by the IACB; participate in exhibits, lectures, conferences, contests, or similar events sponsored by the IACB; individuals investigated or arrested for offering or displaying for sale or selling any good, with or without a Government trademark, in a manner that falsely suggests it is Indian produced, an Indian product, or the product of a particular Indian or Indian tribe or Indian arts and crafts organization; complainants and witnesses of complaints or investigations; and individuals who contact or correspond with DOI officials on matters relating to the management of IACB activities or implementation of the Indian Arts and Crafts Act. This system includes current and former IACB Commissioners and Board members, DOI employees, contractors, and volunteers who are involved in providing the services or the management of IACB program activities, promotions, or initiatives; employees or officials from other agencies, museums, or organizations involved in IACB exhibits, promotions, or activities; and Federal, state, local, or tribal law enforcement officials involved in investigating complaints. This system contains records concerning corporations and other business entities, which are not subject to the Privacy Act. However, records pertaining to individuals acting on behalf of corporations and other business entities may reflect personal information.

CATEGORIES OF RECORDS IN THE SYSTEM:

This system consists of records created or compiled during the management and oversight of IACB activities including records relating to Native American arts and crafts, and outreach to Native American artists, craftspeople, businesses, museums, educational, and cultural organizations; records relating to economic development for Native American artists and craftspeople; and law enforcement records. These records include tribal enrollment documents, photographs, forms, reports, and correspondence, which may include: First and last names, Social Security numbers, dates of birth, home or work addresses, home or work telephone numbers, email addresses, other contact information, badge numbers, investigation case numbers, identification numbers for subjects of investigation, tribal affiliation, tribal enrollment numbers, ethnicity and race, gender, fingerprints, hair and eye color, any other physical or distinguishing attributes of an individual, and category of art or craft. Law enforcement records in this system may also include additional information on individuals collected during the course of conducting an investigation on alleged violations of the Indian Arts and Crafts Act, such as background information, business and personal affiliations, and correspondence, referrals, and findings resulting from such investigations.

AUTHORITY FOR MAINTENANCE OF THE SYSTEM:

Public Law 101-644, The Indian Arts and Crafts Act of 1990; Public Law 106-497, The Indian Arts and Crafts Enforcement Act of 2000; Public Law 111-211, The Indian Arts and Crafts Amendments Act of 2010; 25 U.S.C. 305, Indian Arts and Crafts Board; creation and composition; per diem payments; 18 U.S.C. 1159, Misrepresentation of Indian produced goods and products; and 25 CFR 309, Protection of Indian Arts and Crafts Products.

ROUTINE USES OF RECORDS MAINTAINED IN THE SYSTEM, INCLUDING CATEGORIES OF USERS AND THE PURPOSES OF SUCH USES:

The system will assist the Department of the Interior IACB in implementation of the Indian Arts and Crafts Act, and management and oversight of program activities.

In addition to those disclosures generally permitted under 5 U.S.C. 552a(b) of the Privacy Act, disclosures outside DOI may be made as a routine use pursuant to 5 U.S.C. 552a(b)(3) as follows:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To the Executive Office of the President in response to an inquiry from that office made at the request of the subject of a record or a third party on that person's behalf, or for a purpose compatible for which the records are collected or maintained.

(4) To any criminal, civil, or regulatory law enforcement authority (whether Federal, state, territorial, local, tribal or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, state, territorial, local, tribal, or foreign agencies that have requested information relevant or necessary to the hiring, firing or retention of an employee or contractor, or the issuance of a security clearance, license, contract, grant, or other benefit, when the disclosure is compatible with the purpose for which the records were compiled.

(7) To representatives of the National Archives and Records Administration to conduct records management inspections under the authority of 44 U.S.C. 2904 and 2906.

(8) To state, territorial, and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media and the public, with the approval of the Public Affairs Officer in consultation with Counsel and the Senior Agency Official for Privacy, where there exists a legitimate public interest in the disclosure of the information, except to the extent it is determined that release of the specific information in the context of a particular case would constitute an unwarranted invasion of personal privacy.

(14) To organizations or members of the general public who inquire about artists that have had business with the IACB in order to purchase their art work or craft, or to schedule or attend an exhibit or other similar event.

(15) To Federal, state, local, or tribal law enforcement agencies in order to initiate investigations, criminal proceedings, or civil actions related to complaints or alleged violations of the Indian Arts and Crafts Act and other Federal laws.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Records maintained in paper form are stored in file folders in file cabinets. Electronic records are maintained in computer servers, computer hard drives, electronic databases, email, and electronic media such as removable drives, compact disc, magnetic disk, diskette, and computer tapes.

RETRIEVABILITY:

Information within this system may be retrieved by individual's name, physical address, region and state of residence, email address, tribal affiliation, category of art or craft, investigation number, and identification number for subject.

SAFEGUARDS:

The records contained in this system are safeguarded in accordance with 43 CFR 2.226 and other applicable security rules and policies. During normal hours of operation, paper records are maintained in locked filed cabinets under the control of authorized personnel. Computers and storage media are encrypted in accordance with DOI security policy. The computer servers in which electronic records are stored are located in secured DOI facilities with physical, technical and administrative levels of security to prevent unauthorized access to the DOI network and information assets. Security controls include encryption, firewalls, audit logs, and network system security monitoring. Access to servers containing records in this system is limited to DOI personnel and other authorized parties who have a need to know the information for the performance of their official duties, and requires a valid username and password. Electronic records are safeguarded by permissions set to “Authenticated Users” which require password login. Personnel authorized to access the system must complete all Security, Privacy, and Records Management training and sign the DOI Rules of Behavior.

RETENTION AND DISPOSAL:

IACB records are maintained in accordance with records retention schedules approved by the National Archives and Records Administration (NARA): Comprehensive Schedule of Indian Arts and Crafts Board (IACB) Textual Records (N1-435-93-001); Indian Arts and Crafts Board (IACB) Audiovisual and Publicity-Related Records (N1-435-92-002); Indian Arts and Crafts Board (IACB) Commemorative Volume, 1980, and Correspondence (N1-435-93-002); and Records of the Indian Arts and Crafts Board (IACB) Field Offices, 1930-1983 (N1-435-92-001). IACB Commissioners' biographical records, organizational files and program records, records of meetings, correspondence, publications, and other records relating to the official operations and functions of the IACB have a permanent disposition, and these records are transferred to NARA after cut-off. Other records including routine correspondence, administrative copy files, budget files, and duplicate copies have a temporary disposition, and these records are destroyed in accordance with their applicable retention schedules. Approved disposition methods for temporary records include shredding or pulping paper records, and erasing or degaussing electronic records in accordance with 384 Departmental Manual 1 and NARA guidelines.

SYSTEM MANAGER AND ADDRESS:

Director, Indian Arts and Crafts Board, U.S. Department of the Interior, 1849 C Street NW., Mail Stop 2528-MIB, Washington, DC 20240.

NOTIFICATION PROCEDURES:

The Department of the Interior is proposing to exempt portions of this system from the notification procedures of the Privacy Act pursuant to section (k)(2). An individual requesting notification of the existence of records on himself or herself should send a signed, written inquiry to the System Manager identified above. The request envelope and letter should both be clearly marked “PRIVACY ACT INQUIRY.” A request for notification must meet the requirements of 43 CFR 2.235.

RECORDS ACCESS PROCEDURES:

The Department of the Interior is proposing to exempt portions of this system from the access procedures of the Privacy Act pursuant to section (k)(2). An individual requesting records on himself or herself should send a signed, written inquiry to the System Manager identified above. The request should describe the records sought as specifically as possible. The request envelope and letter should both be clearly marked “PRIVACY ACT REQUEST FOR ACCESS.” A request for access must meet the requirements of 43 CFR 2.238.

CONTESTING RECORDS PROCEDURES:

The Department of the Interior is proposing to exempt portions of this system from the amendment procedures of the Privacy Act pursuant to section (k)(2). An individual requesting corrections or the removal of material from his or her records should send a signed, written request to the System Manager identified above. A request for corrections or removal must meet the requirements of 43 CFR 2.246.

RECORD SOURCE CATEGORIES:

Records in the system are obtained from individual members of the public; organizations; Federal, state, local or tribal officials; DOI employees, contractors, and volunteers; and any persons who correspond or communicate with the IACB in the course of program management activities.

EXEMPTIONS CLAIMED FOR THE SYSTEM:

This system contains law enforcement investigatory records that are exempt from certain provisions of the Privacy Act, 5 U.S.C. 552a(k)(2). Pursuant to 5 U.S.C. 552a(k)(2) of the Privacy Act, the Department of the Interior has exempted portions of this system from the following subsections of the Privacy Act: (c)(3), (d), (e)(1), (e)(4)(G) through (e)(4)(I), and (f). In accordance with 5 U.S.C. 553(b), (c), and (e), the Department of the Interior has promulgated a rule, which has been published separately in today's Federal Register.

[FR Doc. 2015-11688 Filed 5-13-15; 8:45 am]

BILLING CODE 4334-12-P